ENVIRONMENTAL PROTECTION AGENCY

[FRL-7159-1]

Notice of Proposed Administrative Cost Recovery Settlement Pursuant to the Comprehensive Environmental Response, Compensation, and Liability Act

AGENCY: Environmental Protection Agency (EPA).

ACTION: Notice; request for public comment.

SUMMARY: In accordance with section 122(i) of the Comprehensive Environmental Response, Compensation, and Liability Act, as amended (“CERCLA”), notice is hereby given of a proposed administrative cost recovery settlement under section 122(h)(1) of CERCLA concerning the Burgess Inc. Site in Freeport, Illinois, which was signed by the Director of the Superfund Division, EPA Region 5, on January 9, 2002. The settlement resolves an EPA claim under section 107(a) of CERCLA against Gould Electronics Inc. The settlement requires the settling party to pay $107,500 to the Hazardous Substances Superfund.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Freeport Public Library, 314 W. Stephenson St., Freeport, Illinois and EPA Offices, 7th Floor, 77 W. Jackson Blvd., Chicago, Illinois.

DATES: Comments must be submitted on or before April 18, 2002.

ADDRESSES: The proposed settlement and additional background information relating to the settlement are available for public inspection at 7th Floor Superfund File Room, 77 W. Jackson Blvd., Chicago, Illinois. A copy of the proposed settlement may be obtained from Gaylene Vasaturo at (312) 886-1811. Comments should reference the Burgess Inc. Site, Freeport, Illinois and EPA Docket No. V-W-02-C-673 and should be addressed to Gaylene Vasaturo (C-14J), 77 W. Jackson Blvd., Chicago, Illinois 60604.

FOR FURTHER INFORMATION CONTACT: Gaylene Vasaturo (C-14J), 77 W. Jackson Blvd., Chicago, Illinois 60604, (312) 886-1811.

Dated: March 5, 2002.
William E. Muno,
Director, Superfund Division.

[FR Doc. 02-6614 Filed 3-18-02; 8:45 am]

BILLING CODE 6560-50-P